DEPARTMENT OF TRANSPORTATION

Federal Aviation Administration

RTCA Special Committee 135: Environmental Conditions and Test Procedures for Airborne Equipment Joint With EUROCAE Working Group 14

AGENCY: Federal Aviation Administration (FAA), DOT.

ACTION: Notice of RTCA Special Committee 135 meeting joint with EUROCAE Working Group 14.

SUMMARY: The FAA is issuing this notice to advise the public of a meeting of RTCA Special Committee 135: Environmental Conditions and Test Procedures for Airborne Equipment joint with EUROCAE Working Group 14.

DATES: The meeting will be held March 13-15, 2007 starting at 9 a.m.

ADDRESSES: The meeting will be held at Hotel Paradou, near Eurocopter Sausset-les-Pins, France.

FOR FURTHER INFORMATION CONTACT: Due to the particular organization of this meeting please make your booking and provide information on your stay to Marc Poncon as soon as possible at marc.poncon@eurocopter.com.

SUPPLEMENTARY INFORMATION: Pursuant to section 10(a)(2) of the Federal Advisory Committee Act (Pub. L. 92-463, 5 U.S.C., Appendix 2), notice is hereby given for a Special Committee 135 meeting joint with EUROCAE Working Group 14. The agenda will include:

• March 13-15.

• Chairman's Opening Remark, Introductions.

• Welcome from EUROCAE WG-14 Chairman.

• Approval of Summary from the Forty-Eighth SC 135 Meeting and Sixtieth WG 14 Meeting.

• RTCA Paper No. 023/SC135-659.

• EUR 396-06/GT 14-127.

• Review Change Proposals for First Draft of DO-160F/ED (draft section on RTCA Web site).

• Review Schedule to Release DO-16-ED14 F.

• Closing Plenary Session (New/Unfinished Business, Date and Place of Next Meeting).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 5, 2007.
Francisco Estrada C.,
RTCA Advisory Committee.

[FR Doc. 07-628 Filed 2-12-07; 8:45 am]

BILLING CODE 4910-13-M